DEPARTMENT OF TRANSPORTATION

Pipeline and Hazardous Materials Safety Administration

[Docket No. PHMSA-2019-0208]

Pipeline Safety: Random Drug Testing Rate; Management Information System Reporting; and Obtaining Drug and Alcohol Management Information System Sign-In Information

AGENCY: Pipeline and Hazardous Materials Safety Administration (PHMSA), DOT.

ACTION: Notice of calendar year 2020 minimum annual percentage rate for random drug testing, reminder for operators to report contractor Management Information System (MIS) data, and reminder of method for operators to obtain user name and password for electronic reporting.

SUMMARY: PHMSA has determined that the minimum random drug testing rate for covered employees will remain at 50 percent during calendar year 2020. Operators are reminded that drug and alcohol testing information must be submitted for contractors who are performing or are ready to perform covered functions. For calendar year 2019 reporting, the “user name” and “password” for the Drug and Alcohol Management Information System (DAMIS) will be available in the PHMSA Portal.

DATES: Effective January 1, 2020, through December 31, 2020.

FOR FURTHER INFORMATION CONTACT: Wayne Lemoi, Drug & Alcohol Program Manager, Office of Pipeline Safety, by phone at 909-937-7232 or by email at wayne.lemoi@dot.gov.

SUPPLEMENTARY INFORMATION:

Notice of Calendar Year 2020 Minimum Annual Percentage Rate for Random Drug Testing

Operators of natural gas, hazardous liquid, and carbon dioxide pipelines and operators of liquefied natural gas and underground natural gas storage facilities must randomly select and test a percentage of all covered employees for prohibited drug use in accordance with 49 CFR part 199. Pursuant to § 199.105(c)(1), the PHMSA minimum annual random drug testing rate for all covered employees is 50 percent. The Administrator can adjust this random drug testing rate based on the reported positive rate in the pipeline industry's random drug tests, which is submitted in operators' annual Management Information System (MIS) reports as required by § 199.119(a). In accordance with § 199.105(c)(3), if the reported positive drug test rate is below 1 percent for 2 consecutive years, the Administrator can reduce the random drug testing rate to 25 percent of all covered employees. In calendar year 2018, the random drug test positive rate for the entire pipeline industry was reported at greater than 1 percent; therefore, the minimum annual random drug testing rate for calendar year 2020 is maintained at 50 percent of all covered employees.

Reminder for Operators To Report Contractor MIS Data

On January 19, 2010, (75 FR 2926) PHMSA published an advisory bulletin notifying operators of the appropriate methodology for the annual collection of contractor MIS drug and alcohol testing data to avoid duplicative reporting when a contractor works for multiple operators. If an operator is required to submit a MIS report in accordance with part 199, that report is not complete until PHMSA receives MIS data for each tested contractor that performed covered functions as defined in § 199.3. As explained in the 2010 Advisory Bulletin, operators must submit operator and contractor employee testing data in separate MIS reports to avoid duplicative reporting and inaccurate data that could affect the positive rate for the entire industry.

Reminder of Method for Operators To Obtain User Name and Password for Electronic Reporting

By early January 2020, the user name and password required for an operator to access DAMIS and enter calendar year 2019 data will be available to all operator staff with access to the PHMSA Portal. Pipeline operators have been submitting reports required by 49 CFR parts 191 and 195 through the PHMSA Portal (https://portal.phmsa.dot.gov/pipeline) since 2011. PHMSA determined that distributing information via the Portal would be more effective than the previous mailing process.

When the DAMIS user name and password are available in the PHMSA Portal, all registered users will receive an email to that effect. If operator staff responsible for submitting MIS reports do not receive the DAMIS information, they should coordinate with other registered PHMSA Portal users within their company to obtain the DAMIS user name and password. Registered PHMSA Portal users for an operator typically include operator staff or consultants who submit annual and incident reports through PHMSA F 7000- and 7100-series forms. Operators that have not previously registered staff in the PHMSA Portal for the reporting purposes of parts 191 and 195 can register users by following the instructions at: https://portal.phmsa.dot.gov/PHMSAPortal2/staticContentRedesign/howto/PortalAccountCreation.pdf.

Pursuant to §§ 199.119(a) and 199.229(a), operators with more than 50 covered employees, including both operator and contractor staff, are required to submit annual MIS reports. Operators with 50 or fewer total covered employees are required to submit MIS reports only upon written request from PHMSA. If an operator with 50 or fewer total covered employees has submitted an MIS report in or after calendar year 2017, the PHMSA Portal message may state that no MIS report is required for calendar year 2019. If an operator with 50 or fewer covered employees has grown to more than 50 covered employees during calendar year 2019, the PHMSA Portal message will include instructions for how to obtain a DAMIS user name and password for the 2019 calendar year reporting period.

Issued in Washington, DC, on December 19, 2019, under authority delegated in 49 CFR 1.97.
Alan K. Mayberry,
Associate Administrator for Pipeline Safety.

[FR Doc. 2019-27992 Filed 12-27-19; 8:45 am]

BILLING CODE 4910-60-P